DEPARTMENT OF LABOR

Employment and Training Administration

[TA-W-62,439]

PI, Inc., Custom Molding Division, Athens, TN; Notice of Termination of Investigation

Pursuant to section 221 of the Trade Act of 1974, as amended, an investigation was initiated on November 9, 2007 in response to a petition filed by a company official on behalf of workers of PI, Inc., Custom Molding Division, Athens, Tennessee.

The petitioner has requested that the petition be withdrawn. Consequently, the investigation has been terminated. Further investigation in this case would serve no purpose.

Signed at Washington, DC, this 20th day of November 2007.
Elliott S. Kushner,
Certifying Officer, Division of Trade Adjustment Assistance.

[FR Doc. E7-23380 Filed 11-30-07; 8:45 am]

BILLING CODE 4510-FN-P